DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 20, 2004.

Interested persons are invited to submit written comments regarding the subject matter of the investigations to the Director, Division of Trade Adjustment Assistance, at the address shown below, not later than May 20, 2004.

The petitions filed in this case are available for inspection at the Office of the Director, Division of Trade Adjustment Assistance, Employment and Training Administration, U.S. Department of Labor, Room C-5311, 200 Constitution Avenue, NW., Washington, DC 20210.

Signed at Washington, DC, this 30th day of April, 2004.
Timothy Sullivan,
Director, Division of Trade Adjustment Assistance.

APPENDIX
[Petitions instituted between 04/19/2004 and 04/23/2004
TA-W | Subject firm (petitioners) | Location | Date of institution | Date of petition
54,737 | General Electric (USWA) | Coshocton, OH | 04/19/2004 | 03/31/2004
54,738 | Morrill Motors, Inc. (Comp) | Sneedville, TN | 04/19/2004 | 04/16/2004
54,739 | Bosch Automotive Group (Wkrs) | St. Joe, MI | 04/19/2004 | 04/06/2004
54,740 | Weyerhaeuser Cosmopolis (IAM) | Cosmopolis, WA | 04/19/2004 | 04/16/2004
54,741 | Bacon Felt Co. (Comp) | Taunton, MA | 04/19/2004 | 04/13/2004
54,742 | Competitive Machining, Inc. (MI) | Standish, MI | 04/19/2004 | 04/15/2004
54,743 | Acme Pad Corp. (Wkrs) | Baltimore, MD | 04/19/2004 | 04/15/2004
54,744 | Kroger Accounting (Wkrs) | Nashville, TN | 04/19/2004 | 04/01/2004
54,745 | Chart Storage Systems Division | Plaistow, NH | 04/19/2004 | 04/02/2004
54,746 | Eureka Security Printing Co. (Wkrs.) | Jessup, PA | 04/20/2004 | 03/23/2004
54,747 | Kyocera America, Inc. (OR) | Beaverton, OR | 04/20/2004 | 04/08/2004
54,748 | FMC Corporation (MD) | Baltimore, MD | 04/20/2004 | 04/19/2004
54,749 | Fellowes, Inc. (MD) | Belcamp, MD | 04/20/2004 | 04/19/2004
54,750 | Stearns Technical (UNITE) | Cincinnati, OH | 04/20/2004 | 04/19/2004
54,751 | Trilux Technologies (NC) | Winston-Salem, NC | 04/20/2004 | 04/12/2004
54,752 | Bausch and Lomb (Comp) | Salt Lake City, UT | 04/21/2004 | 04/20/2004
54,753 | American of Martinsville (Comp) | Martinsville, VA | 04/21/2004 | 04/19/2004
54,754 | M. Stephens Mfg. Co. (CA) | Cudahy, CA | 04/21/2004 | 04/14/04
54,755 | Textile Sales and Repair, Inc. (Comp) | Dallas, NC | 04/21/2004 | 04/15/2004
54,756 | Stature Electric, Inc. (Wkrs) | Watertown, NY | 04/21/2004 | 04/13/2004
54,757 | Vac Magnetics Corporation (Comp) | Elizabethtown, KY | 04/21/2004 | 04/14/2004
54,758 | Technical Associates (Comp) | Macon, GA | 04/21/2004 | 03/18/2004
54,759 | Seacraft Instruments, Inc. (Wkrs) | Batavia, NY | 04/21/2004 | 03/16/2004
54,760 | SNC Manufacturing Co., Inc. (UAW) | Oshkosh, WI | 04/21/2004 | 04/19/2004
54,761 | Detroit Diesel (UAW) | Detroit, MI | 04/21/2004 | 04/19/2004
54,762 | IntelliRisk Management, Inc. (Wkrs) | Cedar Falls, IA | 04/21/2004 | 04/20/2004
54,763 | Peterson Spring Corp. (IL) | Greenville, IL | 04/22/2004 | 04/21/2004
54,764 | GE Commerical Distribution Finance (Comp) | St. Louis, MO | 04/22/2004 | 04/19/2004
54,765 | Oxy-Dry Corporation (Comp) | Iasca, IL | 04/22/2004 | 04/08/2004
54,766 | Dearden Iron Works (MA) | Chicopee, MA | 04/22/2004 | 04/21/2004
54,767 | International Wire (Wkrs) | El Paso, TX | 04/22/2004 | 04/15/2004
54,768 | Crystal Springs Apparel, LLC (Comp) | Crystal Springs, MS | 04/22/2004 | 04/21/2004
54,769 | Takata Petri, Inc. (Comp) | Port Huron, MI | 04/22/2004 | 04/22/2004
54,770 | Motorola (FL) | Boynton, FL | 04/23/2004 | 04/23/2004
54,771 | Penn Traffic Corp. (The) (NY) | Syracuse, NY | 04/23/2004 | 04/23/2004
54,772 | Metzler Automotive Profile Systems (Wkrs) | Keokuk, IA | 04/23/2004 | 04/19/2004
54,773 | Inovis, Inc. (Wkrs) | Northville, MI | 04/23/2004 | 04/08/2004
54,774 | T and W Tool and Die Corp. (Comp) | Oak Park, MI | 04/23/2004 | 04/14/2004
54,775 | Avondale Mills (Wkrs) | Monroe, GA | 04/23/2004 | 04/23/2004
54,776 | Jefferson Mills, Inc. (Comp) | Pulaski, VA | 04/23/2004 | 04/21/2004

[FR Doc. 04-10542 Filed 5-7-04; 8:45 am]

BILLING CODE 4510-30-P